SECURITIES AND EXCHANGE COMMISSION

[File No. 500-1]

In the Matter of e-Smart Technologies, Inc.; Order of Suspension of Trading

December 12, 2002.

It appears to the Securities and Exchange Commission (“Commission”), based on information provided by the staff, that there is a lack of adequate and accurate information concerning the management, business practices and results of operations of e-Smart Technologies, Inc. (“e-Smart”). The securities of e-Smart Technologies, Inc. are quoted on the Pink Sheets under the symbol ESMT. Information has been provided to the Commission raising concerns as to the adequacy and accuracy of e-Smart's publicly disseminated information concerning, among other things, e-Smart's results of operations, contractual relationships, ownership of technology assets, and projected revenues and profits.

The Commission is of the opinion that the public interest and the protection of investors require a suspension of trading in the securities of e-Smart.

Therefore, it is ordered that, pursuant to section 12(k) of the Securities Exchange Act of 1934 (“Exchange Act”), trading in the securities of e-Smart is suspended for the period from 9:30 a.m. e.s.t. December 13, 2002, through 11:59 p.m. e.s.t., on December 27, 2002.

By the Commission.
J. Lynn Taylor,
Assistant Secretary.

[FR Doc. 02-31842 Filed 12-13-02; 2:38 pm]

BILLING CODE 8010-01-P